ENVIRONMENTAL PROTECTION AGENCY

[EPA-R09-RCRA-2007-0369; FRL-8484-9]

Adequacy of California Municipal Solid Waste Landfill Permit Program

AGENCY: Environmental Protection Agency (EPA).

ACTION: Notice of final determination of adequacy.

SUMMARY: The Environmental Protection Agency Region IX is approving a modification to California's municipal solid waste landfill (MSWLF) permit program to allow the State to issue research, development, and demonstration (RD&D) permits for new and existing MSWLF units and lateral expansions. The approved modification allows the Director of the state program to provide a variance from certain MSWLF criteria, provided that the MSWLF owner/operator demonstrates that compliance with the RD&D permit will not increase risk to human health and the environment over a standard MSWLF permit. The Director may provide a variance from existing requirements of MSWLF criteria for run-on control systems, liquids restrictions, and final cover.

DATES: This final determination is effective on October 19, 2007.

ADDRESSES: A copy of the Docket, Docket ID No. EPA-R09-RCRA-2007-0369, including public comments received, is at http:www//regulations.gov.

FOR FURTHER INFORMATION CONTACT: Karen Ueno, Waste Management Division, WST-7-, Environmental Protection Agency Region IX, 75 Hawthorne Street, San Francisco, CA 94105; telephone number : (415) 972-3317; fax number: (415) 947-3530; e-mail address: ueno.karen@epa.gov.

SUPPLEMENTARY INFORMATION:

I. General Information: Background

On March 22, 2004, EPA issued a final rule amending the municipal solid waste landfill criteria at 40 CFR 258.4 to allow for RD&D permits. (69 FR 13242). This rule allows for variances from specified criteria for a limited period of time. Specifically, the rule allows the Director of an approved State to issue a time-limited RD&D permit for a new MSWLF unit, existing MSWLF unit, or lateral expansion, for which the owner or operator proposes to use innovative and new methods which vary from either or both of the following: (1) The run-on control systems at 40 CFR 258.26; and/or (2) the liquids restrictions at 40 CFR 258.28(a), provided that the MSWLF unit has a leachate collection system designed and constructed to maintain less than a 30-cm depth of leachate on the liner. The rule also allows the Director of an approved State to issue a time-limited RD&D permit for which the owner or operator proposes to use innovative and new methods that vary from the final cover criteria at 40 CFR 258.60(a)(1) and (2), and (b)(1), provided that the owner or operator demonstrates that the alternative cover system will not contaminate groundwater or surface water, or cause leachate depth on the liner to exceed 30 cm. An RD&D permit cannot exceed three years and a renewal of an RD&D permit cannot exceed three years. Although multiple renewals of an RD&D permit can be issued, the total term for an RD&D permit including renewals cannot exceed twelve years.

RD&D permits are only available in states with approved MSWLF permit programs that have been modified to incorporate the RD&D permit authority. Although a state is not required to seek approval for the RD&D permit provision, a state must obtain EPA approval before it may issue such a permit. Requirements for state program determination of adequacy and approval procedures are contained in 40 CFR Part 239.

In 1993, EPA Region IX approved the State of California's MSWLF permit program pursuant to Subtitle D of the Federal Resource Conservation and Recovery Act (RCRA). With its application, dated March 28, 2006, and revised on February 21, 2007, the State of California is seeking EPA approval for a modification to the State's existing MSWLF permit program to incorporate RD&D permits. On June 19, 2007 (72 FR 33757-33759), EPA Region IX issued a Tentative Determination proposing to approve the State's modification and providing an opportunity for public comment. The comment period closed on August 13, 2007. During the public comment period, EPA received only one comment. The commenter supported EPA's Tentative Determination and requested that EPA proceed with final approval. The commenter also provided his opinion of the environmental benefits that could be realized through the RD&D permit program.

II. EPA's Action: Final Determination

After completing a thorough review, EPA is approving California's RD&D permit program modification. California has lawfully promulgated and fully enacted regulations for the RD&D permit program, and these regulations are adequate to ensure compliance with the Federal criteria at 40 CFR 258.4. In conformance with the Federal regulations, and in addition to California-specific requirements, an owner or operator is required to maintain less than a 30-cm depth of leachate on liner and demonstrate that compliance with the RD&D permit will not increase risk to human heath and the environment over compliance with a standard MSWLF permit.

Authority: Sections 2002, 4005, and 4010(c) of the Solid Waste Disposal Act, as amended, 42 U.S.C. 6912, 6945, and 6949(a). Delegation 8-46. State/Tribal Permit Programs for Municipal Solid Waste Landfills.

Dated: October 10, 2007.
Wayne Nastri,
Regional Administrator, Region IX.

[FR Doc. E7-20652 Filed 10-18-07; 8:45 am]

BILLING CODE 6560-50-P